DEPARTMENT OF TRANSPORTATION

Coast Guard

33 CFR Part 165

[CGD01-01-198]

RIN 2115-AA97

Security Zone; Verrazano Narrows Bridge, New York

AGENCY: Coast Guard, DOT.

ACTION: Temporary final rule.

SUMMARY: The Coast Guard is establishing a temporary emergency security zone around the Verrazano Narrows Bridge, New York that will restrict vessel traffic in a portion of The Narrows, between Staten Island and Brooklyn, NY. This action is necessary to ensure public safety, and protect the Port of NY/NJ from sabotage or terrorist acts, accidents, or other causes of a similar nature during the New York City Marathon. Entry into or movement within this zone by any vessel or person, of any description without the express authority of the Captain of the Port, New York, or his authorized patrol representative is strictly prohibited.

DATES: This rule is effective from 9:20 a.m. until 12:20 p.m. on November 4, 2001.

ADDRESSES: Documents indicated in this preamble as being available in the docket, are part of docket (CGD01-01-198) and are available for inspection or copying at Coast Guard Activities New York, 212 Coast Guard Drive, room 204, Staten Island, New York 10305, between 8 a.m. and 3 p.m., Monday through Friday, except Federal holidays.

FOR FURTHER INFORMATION CONTACT: Lieutenant M. Day, Waterways Oversight Branch, Coast Guard Activities New York (718) 354-4012.

SUPPLEMENTARY INFORMATION:

Regulatory Information

We did not publish a notice of proposed rulemaking (NPRM) for this regulation. Under 5 U.S.C. 553(b)(3), the Coast Guard finds that good cause exists for not publishing an NPRM. This rulemaking is urgently required to prevent terrorist strikes within and adjacent to the Port of NY/NJ. The delay inherent in the NPRM process is contrary to the public interest as it may render individuals, vessels and facilities within the Port vulnerable to subversive activity, sabotage or terrorist attack. Commercial vessels may still transit through the Port via Long Island Sound, the East River, the Kill Van Kull, and the Arthur Kill.

Under 5 U.S.C. 553(d)(3), the Coast Guard finds that good cause exists for making this rule effective less than 30 days after publication in the Federal Register. The measures contemplated by the rule are intended to prevent future terrorist attacks. Immediate action is needed to accomplish these objectives. Any delay in the effective date of this rule is impractical and contrary to the public interest.

Background and Purpose

Terrorist attacks against the World Trade Center in Manhattan, New York on September 11, 2001 inflicted catastrophic human casualties and property damage. Federal, state and local agencies are engaged in ongoing efforts to recover the victims and secure other potential terrorist targets from attack. The Coast Guard is establishing this security zone to ensure the security of the Port of NY/NJ against terrorism, sabotage, or other subversive acts and incidents of a similar nature prior to and during the start of the New York City Marathon, a widely publicized event that draws large numbers of spectators and participants.

This regulation establishes a temporary security zone in all waters of The Narrows within 500 yards of the Verrazano Narrows Bridge. The security zone is in effect from 9:20 a.m. until 12:20 p.m. on Sunday, November 4, 2001. The security zone prevents vessels from transiting a portion of The Narrows between Staten Island and Brooklyn, NY.

This security zone is based on the security needs for the Port of NY/NJ. It has been narrowly tailored to impose the least impact on maritime interests yet provide the level of security deemed necessary. Entry into or movement within this security zone is prohibited unless authorized by the Coast Guard Captain of the Port, New York. Public notifications will be made prior to the event via the Local Notice to Mariners and Marine Information Broadcasts.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this final rule to be so minimal that a full Regulatory Evaluation under paragraph 10e of the regulatory policies and procedures of DOT is unnecessary. This finding is based on the minimal time that vessels will be restricted from the zone, that vessels may still transit through the Port via Long Island Sound, the East River, Kill Van Kull, and the Arthur Kill, and advance notifications which will be made. The U.S. Coast Guard in consultation with local, state, and federal law enforcement agencies determined the size of this security zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit a portion of The Narrows between Staten Island and Brooklyn, NY during the times this zone is activated.

This security zone will not have a significant economic impact on a substantial number of small entities for the following reasons. Vessel traffic may still transit through the Port via Long Island Sound, the East River, the Kill Van Kull, and the Arthur Kill. Before the effective period, public notifications will be made via the Local Notice to Mariners and Marine Information Broadcasts, which are widely available to users of the Port of NY/NJ.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph 34(g), of Commandant Instruction M16475.1D, this rule is categorically excluded from further environmental documentation. This rule fits paragraph 34(g) as it establishes an emergency security zone. A “Categorical Exclusion Determination” is available in the docket for inspection or copying where indicated under ADDRESSES.

List of Subjects in 33 CFR Part 165

Harbors, Marine Safety, Navigation (water), Reporting and recordkeeping requirements, Security measures, Waterways.

Regulation

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add temporary § 165.T01-198 to read as follows:

§ 165.T01-198 Security Zone: Verrazano Narrows Bridge, New York.

(a) Location. The following area is a security zone: All waters of The Narrows within 500 yards of the Verrazano Narrows Bridge.

(b) Effective period. This section is effective from 9:20 a.m. until 12:20 p.m. on November 4, 2001.

(c) Regulations. (1) The general regulations contained in 33 CFR 165.33 apply.

(2) All persons and vessels shall comply with the instructions of the Coast Guard Captain of the Port or the designated on-scene-patrol personnel. These personnel comprise commissioned, warrant, and petty officers of the Coast Guard. Upon being hailed by a U.S. Coast Guard vessel by siren, radio, flashing light, or other means, the operator of a vessel shall proceed as directed.

Dated: October 25, 2001.
P.A. Harris,
Captain, U.S. Coast Guard, Captain of the Port, New York, Acting.

[FR Doc. 01-27607 Filed 10-30-01; 3:45 pm]

BILLING CODE 4910-15-U